DEPARTMENT OF LABOR

Employment and Training Administration

[TA-W-55,936]

3M Center Coated Abrasives Division St. Paul, MN; Notice of Termination of Investigation

Pursuant to Section 221 of the Trade Act of 1974, as amended, an investigation was initiated on November 5, 2004 in response to a petition filed by a state workforce representative on behalf of workers at 3M Center, Coated Abrasives Division, St. Paul, Minnesota.

The petitioner has requested that the petition be withdrawn. Consequently, the investigation has been terminated.

Signed at Washington, DC this 18th day of November, 2004.
Linda G. Poole,
Certifying Officer, Division of Trade Adjustment Assistance.

[FR Doc. E4-3516 Filed 12-6-04; 8:45 am]

BILLING CODE 4510-30-P